DEPARTMENT OF LABOR

Employment and Training Administration

[TA-W-72,150A]

Dell Products LP—Parmer North One Including On-Site Leased Workers From Belcan Services Group, Hawkins Associates, Inc., Integrated Human Capital, Magrabbit, Manpower, and Spherion Corporation Austin, TX; Amended Certification Regarding Eligibility To Apply for Worker Adjustment Assistance

In accordance with Section 223 of the Trade Act of 1974, as amended (“Act”), 19 U.S.C. 2273, the Department of Labor issued a Certification of Eligibility to Apply for Worker Adjustment Assistance on January 29, 2010, applicable to workers of Dell Products LP, Parmer North Location, a subsidiary of Dell, Inc., including on-site leased workers from Belcan Services Group, Hawkins Associates, Inc., Integrated Human Capital, MagRabbit, Manpower, and Spherion Corporation, Round Rock, Texas (TA-W-72,150). The notice was published in the Federal Register on March 5, 2010 (75 FR 10321). On May 7, 2010, the certification was amended to include an auxiliary facility, Dell Products LP—Parmer North One, Austin, Texas (TA-W-72,150A). The notice of amended certification was published in the Federal Register on May 21, 2010 (75 FR 28657). The workers at the Austin, Texas facility were engaged in the production of computer equipment (such as workstations, servers, and peripheral equipment).

At the request of the company official, the Department reviewed the certification applicable to workers and former workers of Dell Products LP—Parmer North One, Austin, Texas.

The company reports that workers leased from Belcan Services Group, Hawkins Associates, Inc., Integrated Human Capital, MagRabbit, Manpower, and Spherion Corporation were employed on-site at the Parmer North One location of Dell Products LP, Austin, Texas. The Department has determined that these workers were sufficiently under the control of the subject firm to be considered leased workers.

Based on these findings, the Department is amending this certification to include workers leased from Belcan Services Group, Hawkins Associates, Inc., Integrated Human Capital, MagRabbit, Manpower, and Spherion Corporation working on-site at the Parmer North One location of Dell Products LP, Austin, Texas.

The amended notice applicable to TA-W-72,150A is hereby issued as follows:

All workers of Dell Products LP, Parmer North Location, including on-site leased workers from Belcan Services Group, Hawkins Associates, Inc., Integrated Human Capital, MagRabbit, Manpower, and Spherion Corporation, Austin, Texas, who became totally or partially separated from employment on or after August 24, 2008 through January 29, 2012, and all workers in the group threatened with total or partial separation from employment on the date of certification through two years from the date of certification, are eligible to apply for adjustment assistance under Chapter 2 of Title II of the Trade Act of 1974, as amended.

Signed at Washington, DC, this 1st day of September, 2010.
Del Min Amy Chen,
Certifying Officer, Office of Trade Adjustment Assistance.

[FR Doc. 2010-22719 Filed 9-10-10; 8:45 am]

BILLING CODE 4510-FN-P